DEPARTMENT OF COMMERCE

International Trade Administration

(A-533-808)

Stainless Steel Wire Rods From India: Final Results and Partial Rescission of Antidumping Duty Administrative Review

AGENCY: Import Administration, International Trade Administration, U.S. Department of Commerce.

ACTION: Notice of final results and partial rescission of antidumping duty administrative review of stainless steel wire rods from India.

SUMMARY: On December 19, 2003, the Department of Commerce (“the Department”) published in the Federal Register the preliminary results of its administrative review of the antidumping duty order on stainless steel wire rods from India. See Stainless Steel Wire Rods From India: Preliminary Results and Partial Rescission of Antidumping Duty Administrative Review, 68 FR 70765 (December 19, 2003) (“Preliminary Results”). This review covers Viraj Alloys Limited (“VAL”) and VSL Wires Ltd. (“VSL”)(collectively “Viraj”), Isibars Limited (“Isibars”), and Mukand Limited (“Mukand”), manufacturers and exporters of subject merchandise to the United States. Panchmahal Steel Limited (“Panchmahal”) was originally a respondent in this review, but the Department rescinded the review of Panchmahal based on the timely withdrawal of the only request for review of the company. See Preliminary Results. The period of review is December 1, 2001 through November 30, 2002.

Based on our analysis of the comments received regarding Viraj, we have made changes from the preliminary results of review. Therefore, the final results differ from the Preliminary Results with respect to the weighted-average dumping margin for Viraj. The final weighted-average dumping margin for the reviewed firms is listed below in the section entitled “Final Results of the Review.”

EFFECTIVE DATE: May 26, 2004.

FOR FURTHER INFORMATION CONTACT: Jonathan Herzog (Mukand), Kit Rudd (Viraj), Eugene Degnan (Isibars), and Jon Freed (Panchmahal), Import Administration, International Trade Administration, U.S. Department of Commerce, 14th and Constitution Avenue, N.W., Washington, D.C. 20230; telephone: 202-482-1102, or 202-482-4271, respectively.

SUPPLEMENTARY INFORMATION:

Background

On December 19, 2003, the Department published in the Federal Register the preliminary results and partial rescission of its administrative review of the antidumping duty order on stainless steel wire rods from India. See Preliminary Results. We invited parties to comment on our preliminary results of review. We received Viraj's case briefs on January 27, 2004. We received Mukand's and Isibars' case briefs on January 28, 2004. We received a brief from the petitioner alleging new factual information contained in Mukand's, Isibars' and Viraj's case briefs on February 2, 2004. We received rebuttal briefs to all three of the respondent's briefs from petitioner, dated February 6, 2004. Pursuant to 19 CFR 351.309(c)(ii), the Department directed Mukand, Isibars and Viraj to resubmit their briefs and omit certain new factual information that was not raised in a timely manner. See the Department's letter dated February 24, 2004, rejecting Mukand, Viraj and Isibars' case briefs. Mukand, Isibars and Viraj resubmitted new case briefs redacting the new information on February 26, 2004. We received a letter from the petitioner on March 5, 2004, requesting the Department to complete and clarify the official record of the review by bringing additional information into the official record. We received Viraj's submission containing this new information on March 30, 2004. We received the complete public version of Viraj's submission on April 7, 2004. We have now completed the administrative review in accordance with section 751 of the Tariff Act of 1930, as amended (“the Act”).

Scope of Review

The merchandise under review is certain stainless steel wire rods (“SSWR”), which are hot-rolled or hot-rolled annealed and/or pickled rounds, squares, octagons, hexagons or other shapes, in coils. SSWR are made of alloy steels containing, by weight, 1.2 percent or less of carbon and 10.5 percent or more of chromium, with or without other elements. These products are only manufactured by hot-rolling and are normally sold in coiled form, and are of solid cross section. The majority of SSWR sold in the United States are round in cross-section shape, annealed and pickled. The most common size 5.5 millimeters in diameter.

The SSWR subject to this review are currently classifiable under subheadings 7221.00.0005, 7221.00.0015, 7221.00.0030, 7221.00.0045, and 7221.00.0075 of the Harmonized Tariff Schedule of the United States (HTSUS). Although the HTSUS subheadings are provided for convenience and customs purposes (as of March 1, 2003, renamed the U.S. Bureau of Customs and Border Protection), the written description of the merchandise under review is dispositive of whether or not the merchandise is covered by the review.

Facts Available

In the instant review, for the preliminary results, the Department applied adverse facts available in accordance with section 776(a) of the Act to Isibars because Isibars failed to provide or withheld information the Department requested. See Preliminary Results, 68 FR at 70767. The Department received inadequate responses to the questionnaire and multiple supplemental questionnaires from Isibars and could not verify the incomplete information that Isibars did provide, which is necessary for the margin analysis. See Preliminary Results, 68 FR at 70767. Further, in accordance with sesction 776(a) of the Act, the Department applied partial adverse facts available to certain Mukand sales because Mukand failed to provide or withheld information requested by the Department. See Preliminary Results, 68 FR at 70773. Since we have received no new information since the preliminary results that contradicts the decision made in the preliminary results of review, we continue to apply adverse facts available with respect to Isibars and partial adverse facts available with respect to certain Mukand sales.

Corroboration of Adverse Facts Available

Section 776(c) of the Act provides that, when the Department relies on secondary information rather than on information obtained in the course of an investigation as facts available, it must, to the extent practicable, corroborate that information from independent sources reasonably at its disposal. Secondary information is defined in the Statement of Administrative Act (“SAA”) as “information derived from the petition that gave rise to the investigation or review, the final determination concerning subject merchandise, or any previous review under section 751 concerning the subject merchandise.” See SAA at 870. The SAA provides that to “corroborate” means simply that the Department will satisfy itself that the secondary information to be used has probative value. Id. The SAA also states that independent sources used to corroborate may include, for example, published price lists, official import statistics and customs data, and information obtained from interested parties during the particular investigation. Id. As noted in Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (November 6, 1996), to corroborate secondary information, the Department will, to the extent practicable, examine the reliability and relevance of the information used.

We have corroborated to the extent practicable, the adverse facts available rate we have applied in this review. See Corroboration Memorandum for the Final Results of the 2001-2002 Administrative Review of Stainless Steel Wire Rods from India, dated May 17, 2004, (“Corroboration Memo”). In order to corroborate this rate, the Department compared the petition's quoted and adjusted export prices (“EP”) and home market price quotes, which serve as the basis for normal value (“NV”), to U.S. Customs data, and the Sections B and C databases provided in this administrative review by Mukand and Viraj, where appropriate. See Corroboration Memo at 2 and 3. Comparing the U.S. Customs data and Mukand, we found that the EP prices in the petition were higher than the EP prices provided in the U.S. Customs data and the EP prices provided by Mukand. Further, the NV price per pound as reported in the petition was similar to the home market prices reported by Mukand. See Corroboration Memo at 3.

With respect to the relevance aspect of corroboration, the Department will consider information reasonably at its disposal to determine whether a margin continues to have relevance. Where circumstances indicate that the selected margin is not appropriate as adverse facts available, the Department will disregard the margin and determine an appropriate margin. For example, in Fresh Cut Flowers from Mexico: Final Results of Antidumping Administrative Review, 61 FR 6812 (February 22, 1996), the Department disregarded the highest margin in that case as adverse best information available (the predecessor to facts available) because the margin was based on another company's uncharacteristic business expense resulting in an unusually high margin. Similarly, the Department does not apply a margin that has been discredited. See D&L Supply Co. v. United States, 113 F.3d 1220, 1221 (Fed. Cir. 1997) (the Department will not use a margin that has been judicially invalidated).

There is no information on the record indicating that the rate used would be inappropriate Further, the rate used is currently applicable to all exporters subject to the “All Others” rate.

As the petition rate is both reliable and relevant, we determine that it has probative value. As a result, the Department determines that the petition rate is corroborated for the purposes of this administrative review and may reasonably be applied to Isibars and certain Mukand sales as a total adverse facts available rate. Accordingly, we determine that the petition rate is in accord with section 776(c)'s requirement that secondary information be corroborated (i.e., have probative value).

Consequently, we are applying a single antidumping rate the highest rate from any segment of this administrative proceeding to Isibars' exports based on Isibars' failure to provide information and reconciliations as requested by the Department, and certain Mukand sales. See, e.g., Final Determination of Sales at Less Than Fair Value: Synthetic Indigo from the People's Republic of China, 65 FR 25706, 25707 (May 3, 2000).

Analysis of Comments Received

All issues raised in the case and rebuttal briefs by parties to this administrative review are addressed in the “Issues and Decision Memorandum” (“Decision Memorandum”) from Joseph A. Spetrini, Deputy Assistant Secretary, Import Administration, to James J. Jochum, Assistant Secretary for Import Administration, dated May 17, 2004, which is hereby adopted by this notice. A list of the issues which parties have raised and to which we have responded, all of which are in the Decision Memorandum, is attached to this notice as an Appendix. Parties can find a complete discussion of all issues raised in this review and the corresponding recommendations in the Decision Memorandum, which is on file in the Central Records Unit, Room B-099 of the main Department building. In addition, a complete version of the Decision Memorandum can be accessed directly on the Web at http://ia.ita.doc.gov/frn/index.html. The paper copy and electronic version of the Decision Memorandum are identical in content.

Sales Below Cost

We disregarded sales that failed the cost test for Mukand and Viraj during the course of the review. We initiated a sales below the cost of production investigation with respect to Isibars. See the Department's June 3, 2003 letter to Isibars initiating sales below cost of production investigation. However, because Isibars did not provide the Department with a complete cost database, the Department could not conduct the dumping analysis, including the sales below cost investigation. For a complete discussion of Isibars' incomplete cost information see Comment 1 of the Decision Memorandum.

Changes Since the Preliminary Results

Based on our analysis of comments received, we have made changes in the margin calculations for Viraj. The changes to the margin calculations are listed below:

Viraj

• The Department has revised the general and administrative and net interest expense ratios based on the 2002-2003 financial statements. See Comment 5.

• The Department has revised Viraj's brokerage and handling expenses as partial adverse facts available due to Viraj's inability to substantiate these expenses. See Comment 6.

• The Department has revised the U.S. direct selling expenses to account for an exchange rate conversion. See Comment 8.

• The Department has revised Viraj's cost of production (“COP”) calculation to account for rolling labor charges. See Comment 9.

• The Department has revised the calculation of home market imputed credit expenses to account for sales transactions with multiple pay dates. See Comment 12.

• The Department has revised the U.S. credit rate used to calculate U.S. imputed credit in accordance with Import Administration Policy Bulletin 98-2. See Comment 13.

Final Results of Review

We determine that the following percentage margins exist for the period December 1, 2001, through November 30, 2002:

Producer/Manufacturer/Exporter | Weighted-Average Margin
Viraj | 0.0%
Mukand | 18.67%
Isibars | 48.80%

The Department shall determine, and U.S. Customs and Border Protection (“CBP”) shall assess, antidumping duties on all appropriate entries. In accordance with 19 CFR 351.212(b)(1), we have calculated exporter/importer (or customer)-specific assessment rates for merchandise subject to this review. The Department will issue appraisement instructions directly to CBP within 15 days of publication of these final results of review. We will direct CBP to assess the resulting assessment rates against the entered customs values for the subject merchandise on each of that importer's entries under the relevant order during the review period. For duty-assessment purposes, we calculated importer-specific assessment rates by dividing the dumping margins calculated for each importer by the total entered value of sales for each importer during the period of review.

Cash Deposit Requirements

The following deposit requirements will be effective upon publication of this notice of final results of administrative review for all shipments of stainless steel wire rods from India entered, or withdrawn from warehouse, for consumption on or after the date of publication, as provided by section 751(a)(1) of the Act: (1) The cash deposit rates for Viraj, Mukand, and Isibars will be the rates shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in these or any previous reviews conducted by the Department, the cash deposit rate will be the “all others” rate, which is 48.80 percent.

These deposit requirements shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 777(i)(1) of the Act.

Dated: May 17, 2004.
James J. Jochum,
Assistant Secretary for Import Administration.

Appendix 1

Issues in the Decision Memorandum

A. Issues with regard to Isibars

Comment 1: Facts Available

B. Issues with regard to Mukand

Comment 2: Collapsing of Grades

Comment 3: Agency Sales

Comment 4: Use of Partial Facts Available

C. Issues with regard to Viraj

Comment 5: New Information

Comment 6: Brokerage and Handling Expenses

Comment 7: Difference in Merchandise Adjustment

Comment 8: U.S. Direct Selling Expenses

Comment 9: Direct Labor

Comment 10: Net Interest Expenses

Comment 11: Home Market Credit Expense

Comment 12: Home Market Interest Rate

Comment 13: U.S. Credit Expense

Comment 14: Duty Drawback

[FR Doc. 04-11913 Filed 5-25-04; 8:45 am]

BILLING CODE 3510-DS-S